NATIONAL ARCHIVES AND RECORDS ADMINISTRATION

Privacy Act of 1974, as Amended; System of Records Notices

AGENCY: National Archives and Records Administration (NARA).

ACTION: Notice to add a new Privacy Act system of records and modify an existing system of records.

SUMMARY: The National Archives and Records Administration (NARA) proposes to add a system of records notice to its existing inventory of systems subject to the Privacy Act of 1974 (5 U.S.C. 552a), as amended. In this notice, NARA publishes NARA 38—Project Management Records, for comment.

EFFECTIVE DATES: The establishment of the new system NARA 38 will become effective without further notice on March 22, 2004, unless comments received on or before that date cause a contrary decision. If changes are made based on NARA's review of comments received, a new final notice will be published.

ADDRESSES: NARA invites interested persons to submit comments on this proposed rule. Comments may be submitted by any of the following methods:

• Mail: Send comments to: Privacy Act Officer, Office of General Counsel (NGC), Room 3110, National Archives and Records Administration, 8601 Adelphi Road, College Park, MD 20740-6001.

• Fax: Submit comments by facsimile transmission to: 301-837-0293.

• E-mail: Send comments to http://www.regulations.gov. You may also comment via e-mail to comments@nara.gov. See SUPPLEMENTARY INFORMATION for details.

FOR FURTHER INFORMATION CONTACT: Ramona Branch Oliver, Privacy Act Officer, 301-837-2024 (voice) or 301-837-0293 (fax).

SUPPLEMENTARY INFORMATION: NARA last published a comprehensive set of Privacy Act system notices in the Federal Register on April 2, 2002 (67 FR 15592). NARA published two additional systems: NARA 35 and NARA 36, in the Federal Register on October 17, 2002 (67 FR 64142). NARA also published one additional system NARA 37 and a revised version of the existing system NARA 25, in the Federal Register on October 21, 2003 (68 FR 60121).

NARA is proposing to add NARA 38—Project Management Records, to its existing inventory of systems subject to the Privacy Act of 1974 (5 U.S.C. 552a), as amended. NARA 38 covers persons who work on NARA projects.

The notice for the new system of records states the following:

• Name and the location of the record system;

• Authority for and manner of its operation;

• Categories of individuals that it covers;

• Types of records that it contains;

• Sources of information in these records;

• Proposed “routine uses” of each system of records; and

• Business address of the NARA official who will inform interested persons of the procedures they must follow to gain access to and correct records pertaining to themselves.

One of the purposes of the Privacy Act, as stated in section 2(b)(4) of the Act, is to provide certain safeguards for an individual against an invasion of personal privacy by requiring Federal agencies to disseminate any record of identifiable personal information in a manner that assures that such action is for a necessary and lawful purpose, that information is current and accurate for its intended use, and that adequate safeguards are provided to prevent misuse of such information. NARA intends to follow these principles in transferring information to another agency or individual as a “routine use”, including assurance that the information is relevant for the purposes for which it is transferred.

Dated: February 13, 2004.
John W. Carlin,
Archivist of the United States.

Accordingly, we are publishing the proposed new system of records notice NARA 37 as follows:

NARA 38

System Name:

Project Management Records.

System Location:

This system is located at the National Archives and Records Administration (NARA) in College Park, MD.

Categories of Individuals Covered by the System:

Individuals covered by this system include NARA employees and NARA contractors who work on NARA projects.

Categories of Records in the System:

Individual files may contain some or all of the following information about NARA employees and NARA contractors: name, job title, work organization, supervisor, project assignments, work experience, and work availability.

Project files consist of a list of NARA approved projects and related information about these projects. These files will contain some or all of the following information: work tasks, planned and actual start and finish dates, resource requirements, dependencies and deliverables.

Work files consist of information reported by an individual that shows, by task: resource expenditures in hours and dollars, remaining effort to complete the task, date of completion, risk assessments, issues and documentation that shows work progress.

Authority for Maintenance of the System:

44 U.S.C. 2104, 31 U.S.C. 1115, and 40 U.S.C. 1423.

Routine Uses of Records Maintained in the System, Including Categories of Users and the Purposes of Such Uses:

NARA maintains this information to effectively manage NARA's project portfolio. This includes defining projects and, within them, activities, tasks, milestones, and deliverables and assigning individuals to projects, measuring performance of on-going projects against established baselines, assessing the availability of resources to begin new projects and determining the capital costs of completed projects. Records will be disclosed for these uses both to authorized NARA staff and to contractors assisting NARA in these activities. These records may also be used to evaluate the performance of individuals, both NARA staff and contractors, against goals established by project managers and/or contract managers.

Records from this system of records may be disclosed as a routine use to an agency or official of the U.S. Government exercising oversight over an activity covered by the system, or over the methods or manner in which NARA manages these activities, the resources committed to them, and their results. Such disclosures are limited to the extent necessary for them to exercise their oversight authority. Oversight agencies include, but are not limited to, the NARA Inspector General, GAO or other entities evaluating, auditing, or reviewing NARA's project management, capital investments, and earned value management. They may include officials of other agencies who are partners of NARA in one or more of the projects covered by the system.

The routine use statements A, C, D, E, F, and G described in Appendix A published at 67 FR 15592, also apply to this system of records.

Policies and Practices for Storing, Retrieving, Accessing, Retaining, and Disposing of Records in the System:

Storage:

Electronic and paper.

Retrievability:

Information in employee related files will be retrieved by the name of the individual.

Safeguards:

Electronic records are accessible to authorized personnel via password from terminals owned by NARA and maintained in NARA attended offices. After business hours, buildings have security guards and/or secured doors, and all entrances are monitored by electronic surveillance equipment.

Retention and Disposal:

The disposition of the project management records is under consideration. Accordingly, the records generated cannot be destroyed until a records schedule is approved by the Archivist. Once the disposition is determined, retention and disposal of the records will be governed in accordance with the applicable disposition instructions in the NARA records schedule contained in FILES 203, the NARA Files Maintenance and Records Disposition Manual. Individuals may request a copy of the disposition instructions from the NARA Privacy Act Officer.

System Manager(s) and Address:

The system manager for project management records is the Assistant Archivist for Human Resources and Information Technology. The address for this location is published at 67 FR 15592.

Notification Procedure:

Individuals interested in inquiring about their records should notify the NARA Privacy Act Officer at the address listed in Appendix B published at 67 FR 15592.

Record Access Procedures:

Individuals who wish to gain access to their records should submit their request in writing to the NARA Privacy Act Officer at the address listed in Appendix B published at 67 FR 15592.

Contesting Record Procedures:

NARA rules for contesting the contents and appealing initial determinations are found in 36 CFR part 1202.

Record Source Categories:

Information about individuals in the records is obtained primarily from NARA employees and NARA contractors who work on NARA projects. Addition information may be obtained from NARA supervisors, other personnel, NARA operational records and information provided by contractors who provide staff to work on NARA projects.

[FR Doc. 04-3763 Filed 2-20-04; 8:45 am]

BILLING CODE 7515-01-P